DEPARTMENT OF AGRICULTURE

Submission for OMB Review; Comment Request

February 23, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: WIC Infant and Toddler Feeding Practices Study-2 (ITFPS-2) Age 3 Extension.

OMB Control Number: 0584-0580.

Summary of Collection: The Health, Hunger-Free Kids Act of 2010 (Pub. L.111-296, Sec. 305) mandates programs under its authorization, including WIC, to cooperate with USDA program research and evaluation activities. The United States Department of Agriculture's (USDA) Special Supplemental Nutrition Program for Women, Infants and Children (WIC) serves a highly-vulnerable population low-income pregnant and post-partum women, infants, and children through their fifth birthday who are at nutritional risk. The program provides supplemental food packages, health referrals and nutrition education for participants. The Age 3 Extension will provide the data to answer research questions relevant to WIC program and policy as well as the nutrition and wellbeing of children up to their 3rd birthday.

Need and Use of the Information: The study is needed to provide FNS with information on the factors that influence feeding practices and the nutrition and health outcomes of infants and toddlers in the first two years of their lives. The Age 3 Extension study will expand the data collection to their third year of life.

Description of Respondents: Not-for-profit institutions; Individual or households; Business or other for-profit; State, Local or Tribal Government.

Number of Respondents: 4,353.

Frequency of Responses: Reporting: On occasion; Other (alt month).

Total Burden Hours: 5,409.

Ruth Brown,
Departmental Information Collection Clearance Officer.

[FR Doc. 2015-04088 Filed 2-26-15; 8:45 am]

BILLING CODE 3410-30-P